DEPARTMENT OF STATE

[Public Notice 6842]

Shipping Coordinating Committee; Notice of Committee Meeting

The Shipping Coordinating Committee (SHC) will conduct an open meeting at 1 p.m. on Thursday, January 7, 2010, in Room 6103 of the United States Coast Guard Headquarters Building, 2100 Second Street, SW., Washington, DC 20593-0001. The primary purpose of the meeting is to prepare for the fifty second Session of the International Maritime Organization (IMO) Subcommittee on Stability and Load Lines and on Fishing Vessels Safety (SLF) to be held at the IMO Headquarters, United Kingdom, from January 25 to January 29, 2010.

The primary matters to be considered include:

—Adoption of the agenda

—Decisions of other IMO bodies

—Development of new generation intact stability criteria

—Safety of small fishing vessels

—Development of options to improve effect on ship design and safety of the International Convention on Tonnage Measurement, 1969

—Time dependent survivability of passenger ships in damaged condition

—Guidance on the impact of open watertight doors on existing and new ship survivability

—Stability and sea-keeping characteristics of damaged passenger ships in a seaway when returning to port by own power or under tow

—Guidelines for verification of damage stability requirements for tankers and bulk carriers

—Safety provisions applicable to tenders operating from passenger ships

—Damage stability regulations for ro-ro passenger ships

—Development of an agreement on the implementation of the 1993 Torremolinos Protocol

—Consideration of IACS unified interpretations

—Subdivision standards for cargo ships

—Work program and agenda for SLF 53

—Election of Chairman and Vice-Chairman for 2011

—Any other business

—Amendments to the 1966 Load Line Convention and the 1988 Load Line Protocol related to seasonal zone

—Report to the Maritime Safety Committee.

Members of the public may attend this meeting up to the seating capacity of the room. To facilitate the building security process, those who plan to attend should contact the meeting coordinator; Mr. Jaideep Sirkar by e-mail at jaideep.sirkar@uscg.mil, by phone at (202) 372-1366, by fax at (202) 372-1925, or in writing at Commandant (CG-5212), U.S. Coast Guard, 2100 2nd Street, SW., Stop 7126, Washington, DC 20593-7126 not later than 72 hours before the meeting. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: http://www.uscg.mil/hq/cg5/imo.

Dated: December 8, 2009.
Jon Trent Warner,
Executive Secretary, Shipping Coordinating Committee, Department of State.

[FR Doc. E9-30047 Filed 12-16-09; 8:45 am]

BILLING CODE 4710-09-P